DEPARTMENT OF HEALTH AND HUMAN SERVICES

Administration for Children and Families

[Program Announcement No. CFDA 93.576]

Technical Assistance to Special Programs

AGENCY: Office of Refugee Resettlement (ORR), ACF, DHHS.

ACTION: Notice of availability of FY 2000 discretionary funds for technical assistance in six categories of programs that assist refugees.

SUMMARY: ORR invites eligible entities to submit competitive applications for cooperative agreements to provide technical assistance to agencies that serve in the following program areas:

Program Area 1—Technical assistance for special programs in designated initiatives;

Program Area 2—Technical assistance for employment services;

Program Area 3—Technical assistance to English language training providers;

Program Area 4—Technical assistance to agencies with Individual Development Account (IDA) projects for refugees;

Program Area 5—Technical assistance for refugee child welfare services; and

Program Area 6—Technical assistance for refugee housing services.

Applications will be screened and evaluated as indicated in this program announcement. Awards will be contingent on the outcome of the competition and the availability of funds.

Applications will be accepted pursuant to the Director's discretionary authority under section 412(c) of the Immigration and Nationality Act (INA) (8 U.S.C. 1522), as amended.

DATES: The closing date for submission of applications is June 20, 2000. See Part IV of this announcement for more information on submitting applications.

FOR FURTHER INFORMATION CONTACT: Program Areas 1 and 5—Marta Brenden at (202) 205-3589, MBrenden@ACF.DHHS.GOV; Program Areas 2, 4 and 6—Henley Portner at (202) 401-5363, HPortner@ACF.DHHS.GOV; Program Area 3—Nguyen Kimchi at (202) 401-4556, NKimchi@ACF.DHHS.GOV. Application materials are also available from Marta Brenden at the Office of Refugee Resettlement, 370 L'Enfant Promenade SW, Washington DC 20447 and on the ORR website at www.acf.dhhs.gov/program/orr.

SUPPLEMENTARY INFORMATION: This program announcement consists of four parts:

Part I: Background, legislative authority, funding availability, CFDA Number, applicant eligibility, project and budget periods, length of application, and for each of the six program areas: purpose and scope, allowable activities, and review criteria.

Part II: General instructions for preparing a full project description.

Part III: The Review Process—Intergovernmental review, initial ACF screening, competitive review, and funding reconsideration.

Part IV: The Application—Application materials, application development, application submission information and certifications, and regulations and reporting.

Paperwork Reduction Act of 1995 (Pub. L. 104-13)

Public reporting burden for each collection of information is estimated to average 8 hours, including the time for reviewing instructions, gathering and maintaining the data needed, and reviewing the collection of information. The following information collections are included in the program announcement: OMB Approval No. 0970-0139, ACF UNIFORM PROJECT DESCRIPTION (UPD) which expires 10/31/2000. An agency may not conduct or sponsor, and a person is not required to respond to, a collection of information unless it displays a currently valid OMB control number.

Part I: Background

In recent years, ORR has supported the work of its grantees in various program areas through several “technical assistance” grants with organizations uniquely qualified to advance the field, improve program achievement and develop organizational capacity to improved performance. ORR has supported technical assistance for employment, English language training, microenterprise, services to the elderly, and the impact of welfare reform on refugees. Under this announcement, ORR continues its practice of providing technical assistance to the field of grantees in several new or expanded categories. ORR's intent through this support is to equip grantees with the best technical help for continuous improvement in programs, in their capacity to serve refugees, and in their impact on refugee lives and economic independence.

Legislative Authority: This program is authorized by Section 412(c)(1)(A) of the Immigration and Nationality Act (INA)(8 U.S.C. 1522 (c)(1)(A)), as amended, which authorizes the Director “to make grants to, and enter into contracts with, public or private nonprofit agencies for projects specifically designed—(i) to assist refugees in obtaining the skills which are necessary for economic self sufficiency, including projects for job training, employment services, day care, professional refresher training, and other recertification services; (ii) to provide training in English where necessary (regardless of whether the refugees are employed or receiving cash or other assistance); and (iii) to provide where specific needs have been shown and recognized by the Director, health (including mental health) services, social services, education and other services.” The FY 2000 Appropriation Act for the Department of Health and Human Services (Pub. L. 106-113) appropriates funds for refugee and entrant assistance activities authorized by these provisions of the INA.

Funding Availability: ORR expects to make available approximately $2 million for up to 6 cooperative agreements one for each program area.

The Director reserves the right to award less, or more, than the funds described, in the absence of worthy applications, or under such other circumstances as may be deemed to be in the best interest of the government.

CFDA Number: 93.576.

Applicant Eligibility: Eligible applicants are public and private non-profit organizations and agencies of State governments that are responsible for the refugee program under 45 CFR 400.5.

Project and Budget Periods: This announcement invites applications for project periods up to 3 years. Awards, on a competitive basis, will be for a one-year budget period, although project periods may be for 3 years. Applications for continuation grants funded under these awards beyond the one-year budget period but within the 3 year project period will be entertained in subsequent years on a noncompetitive basis, subject to availability of funds, satisfactory progress of the grantee and a determination that continued funding would be in the best interest of the Government.

Length of Application: Applicants are encouraged to limit program narratives to 25 pages (double-spaced on standard, letter-size paper, in 12-point font) plus no more than 25 pages of appended material. This limitation of 25 pages per program area should be considered as a maximum, and not necessarily a goal.

Program Area 1

Technical Assistance for Special Programs in Designated Initiatives

Program Purpose and Scope

The Office of Refugee Resettlement (ORR) proposes to award one cooperative agreement for the purpose of providing technical assistance to designated programs of special interest to the Director. For fiscal year 2000 funds, three special programs have been designated: microenterprise development; model projects for comprehensive cash assistance and employment services; and projects for refugees who have experienced long-term difficulties in assimilation. Through this award, ORR intends to provide technical planning and assistance to grantees for multiple purposes: to strengthen organizational capacity; to share policies, procedures, and materials through a grantee network; to collaborate on performance measures; to report program performance; and to assist grantees in their efforts at continuous performance improvement and its impact on refugee economic self-sufficiency.

Approximately $500,000 has been allocated for this program area. One cooperative agreement may be awarded for one national project. Successful applicants will have demonstrated expertise in both organizational and community development as well as more specialized experience in the field of micro-finance and the development of microenterprise projects.

Through this cooperative agreement, ORR intends to review and approve (1) A technical assistance plan, including proposed site visits and technical assistance activities and schedules; (2) all written materials developed and proposed for dissemination to the field; and (3) locations of proposed workshops, proposed topics and formats, and agendas.

Allowable Activities

Applicants may propose all or some combination of the following, as well as other innovative strategies for technical assistance:

• Assessing technical assistance and training needs in agencies and communities;

• Disseminating information, materials and technical advice related to employment, subsidized employment, self-employment, effective case management, financial management systems, and micro-finance;

• Collecting and summarizing data and information on program performance;

• Facilitating the electronic exchange of information through a network website, listserve, and through the collection and reporting of program performance, performance measurement, and impact information;

• Providing on-site or group training or technical assistance meetings and workshops;

• Developing training curricula and materials;

• Conducting on-site program reviews;

• Maintenance of a database of characteristics and achievements of the programs and preparation and dissemination of reports on the program characteristics and achievements.

Program Area 1

Application Review Criteria

1. Approach. The technical assistance plan is clearly described and appropriate, and the proposed activities and timeframes are reasonable. The technical assistance plan describes clearly and in detail the manner in which the applicant will assess the need for technical assistance, the proposed activities, and how the proposed activities are expected to address known technical assistance needs of agencies and communities. (20 points)

2. Results or Benefits Expected. The results or benefits expected are clearly explained and are appropriate to the technical assistance activities proposed. (15 points)

3. Organizational Profiles. The capacity of the applicant to achieve the project's objectives is clearly demonstrated. Organizational expertise and experience in the provision of technical assistance and information sharing are appropriate for the proposed project. (30 points)

4. Staff and Position Data. Staff qualifications are clearly presented and are appropriate to achieving the project's objectives. The description of staff qualifications demonstrates experience in providing technical assistance to refugee programs and communities. (20 points)

5. Budget and Budget Justification. The budget is clearly presented and is detailed, reasonable, and cost effective. (15 points)

Program Area 2

Technical Assistance for Employment Services

Purpose and Scope

The primary goal of refugee resettlement is to assist refugees in becoming self-sufficient. Two factors critical to achieving this goal are attachment to the labor force and the opportunity to earn a living wage. ORR proposes to award one cooperative agreement to an agency that will provide technical assistance to ORR employment service providers.

This announcement continues ORR's longstanding support for technical assistance to refugee employment service providers for multiple purposes: to identify model and best practices and to disseminate this information broadly; to assist local programs in implementing performance measures under the Government Performance and Results Act (GPRA); to develop and conduct training and on-site peer reviews; and to perform on-site analysis of employment services in such areas as staff training, multi-agency collaboration, and employer and/or refugee involvement in the design of services.

Approximately $275,000 has been allocated for this program area. One cooperative agreement may be awarded for one national project. Through this cooperative agreement, ORR intends to review and approve (1) the technical assistance plan, including proposed site visits and technical assistance activities and schedules; (2) all written materials developed prior to the release of such documents; and (3) locations of proposed workshops, proposed topics and formats, and agendas.

Allowable Activities

Applicants may propose all or a combination of the activities described below. Applicants may also propose new or innovative approaches to providing technical assistance for employment services.

• On-site visits to assess technical assistance needs, to provide technical assistance and training directly to agencies, and to ascertain best practices in providing employment services;

• Preparation of a variety of reports to be distributed to agencies to assist them in providing employment services, including site visit reports and best practices reports;

• Organization and operation of workshops for agencies in the area of employment services, to include facilitated discussions, training, and presentations; and

• Provision of technical assistance, both in writing and by telephone, to agencies.

• Maintenance of a database of characteristics and achievements of the programs and preparation and dissemination of reports on the program characteristics and achievements.

Program Area 2

Application Review Criteria

1. Approach. The technical assistance plan is clearly described and appropriate; and the proposed activities and timeframes are reasonable. The technical assistance plan describes clearly and in detail the manner in which the applicant will assess the need for technical assistance, the proposed activities, and how the proposed activities are expected to address known technical assistance needs of agencies that provide employment services. (30 points)

2. Results or Benefits Expected. The results or benefits expected are clearly explained and are appropriate to the technical assistance activities proposed. (15 points)

3. Organizational Profiles. The capacity of the applicant to achieve the project's objectives is clearly demonstrated. Organizational expertise and experience in the provision of employment services and in the provision of technical assistance are described and are appropriate and adequate for the proposed project. (20 points)

4. Staff and Position Data. Staff qualifications are clearly presented and are appropriate to achieving the project's objectives. The description of staff qualifications demonstrates experience in providing employment services and in providing technical assistance. (20 points)

5. Budget and Budget Justification. The budget is clearly presented and is detailed, reasonable, and cost effective. (15 points)

Program Area 3

Technical Assistance to English Language Training Providers

Purpose and Scope

The Office of Refugee Resettlement (ORR) proposes to award one cooperative agreement in the amount of $275,000 for a project to provide technical assistance and training to providers of English language training (ELT). Technical assistance may be proposed for the following purposes:

• Design and improvement of employment-related ELT. Technical assistance and training may be provided both to teachers and to programs; the technical assistance and training may be focused on curricula, teaching strategies, and/or program development such as integrating ELT with employment-focused services, work-site ELT, and family literacy.

• Training in the areas of cultural adjustment, learning disabilities, and mental health and in the use of new or innovative classroom technologies. Training may include topics such as identifying cultural adjustment/learning disabilities/mental health issues, accommodating such issues in the classroom and/or seeking professional consultation, and developing appropriate curricula. Training may also include introducing teachers to new and/or innovative ELT technologies, such as using software programs in classroom instruction.

• Organization and facilitation of consultative and information-sharing sessions. Such sessions may include staff from similar types of agencies or from agencies serving similar groups of refugees. The purpose of the sessions would be to provide an opportunity for ELT staff to share experiences. These sessions may also provide opportunities for different types of staff—ELT teachers, case managers, employment specialists, public health professionals—to meet to develop strategies for effective working relationships.

Applicants should propose technical assistance projects that are to be implemented nationally. Under the cooperative agreement for these projects, ORR intends to review and approve: (1) The technical assistance plan, including proposed sites and participants; (2) assessment tools to be used to evaluate technical assistance needs; (3) subject areas for which technical assistance curricula will be used; and (4) materials prepared for use in the delivery of the technical assistance.

Allowable Activities

Applicants may propose all or a combination of the activities described below. Applicants may also propose additional or innovative approaches for technical assistance for ELT providers.

• Assessment of ELT technical assistance needs in agencies and communities;

• Organization and operation of training and facilitated sessions on identified ELT technical assistance needs. These sessions may include both single agency and multi-site or multi-project training and facilitated discussion;

• Provision of technical assistance, both in writing and by telephone, to ELT providers;

• Review of existing materials and recommendations on usefulness/appropriateness for use in refugee-oriented ELT; and preparation and distribution of materials relevant to identified ELT needs;

• Development of, or participation in the development of, employment-based ELT curricula;

• Facilitation of a network of providers to share information and to resolve problems.

Program Area 3

Review Criteria for Technical Assistance to Organizations Providing English Language Training

1. Approach. The technical assistance plan is clearly described and appropriate; and the proposed activities and timeframes are reasonable. The technical assistance plan describes clearly and in detail the manner in which the applicant will assess the need for technical assistance, the proposed activities, and how the proposed activities are expected to address known ELT technical assistance needs. (30 points)

2. Results or Benefits Expected. The results or benefits expected are clearly explained and are appropriate to the technical assistance activities proposed. (15 points)

3. Organization Profiles. The capacity of the applicant to achieve the project's objectives is clearly demonstrated. Organizational expertise and experience in the provision of ELT and/or in ELT technical assistance to ELT staff and to agencies are described and are appropriate and adequate for the proposed project. (20 points)

4. Staff and Position Data. Staff qualifications are clearly presented and are appropriate to achieving the project's objectives. The description of staff qualifications demonstrates experience in providing ELT services and in providing ELT and cross-cultural communication technical assistance. (20 points)

5. Budget and Budget Justification. The budget is clearly presented, detailed, reasonable, and cost effective. (15 points)

Program Area 4

Technical Assistance to Agencies With Individual Development Account (IDA) Refugee Projects

Purpose and Scope

ORR invites eligible entities to submit competing applications for a cooperative agreement to provide technical assistance and information sharing activities to providers of Individual Development Account (IDA) Programs for Refugees. Under the cooperative agreement, the grantee would implement various activities intended to assist ORR-funded IDA grantees in the administration of their projects.

Allowable Activities

Allowable activities could include:

• On-site visits to assess technical assistance needs, provide technical assistance and training directly to grantees, and to ascertain best practices in both administering IDA programs and addressing the specific needs of refugees participating in these programs;

• Preparation of a variety of reports to be distributed to IDA grantees to assist them in administering their IDA programs, including site visit reports and best practices reports;

• Organization and operation of workshops for IDA grantees, to include facilitated discussions, training, and presentations;

• Provision of technical assistance, both in writing and by telephone, to IDA grantees;

• Facilitation of a network of IDA grantees to share information and to resolve problems, through, for example, the maintenance of a listserve, conference calls, etc.; and

• Maintenance of a database of characteristics and achievements of IDA programs and preparation and dissemination of reports on IDA program characteristics and achievements.

Applicants may propose additional techniques for providing technical assistance and information sharing activities to IDA grantees.

Approximately $250,000 has been allocated for this program area. Under the cooperative agreement(s), ORR intends to review and approve: (1) Proposed site visits and technical assistance activities; (2) all written materials developed prior to the release of such documents; (3) locations of proposed workshops, proposed topics and formats, and agendas; and (4) database program and structure. ORR expects that applicants for the cooperative agreement(s) for technical assistance will demonstrate in their applications expertise in the areas of administering financial programs such as IDA programs, providing financial training to low-income populations, and in providing technical assistance and information-sharing activities.

Program Area 4

IDA Review Criteria

Proposed projects to provide Technical Assistance and Information-Sharing Activities to Individual Development Account Programs will be evaluated according to the following criteria:

1. Approach. The technical assistance plan is clearly described and appropriate; the proposed activities and timeframes are reasonable and feasible. The plan describes in detail how the proposed activities will be accomplished. (30 points)

2. Results or Benefits Expected. The results or benefits expected are clearly explained and are appropriate to the technical assistance activities proposed. (15 points)

3. Staff and Position Data. Staff qualifications are clearly presented and are appropriate to achieving the project's goals. Staff qualifications show experience in providing technical assistance and information-sharing activities in the areas of administering financial programs and providing financial training to low-income populations. (20 points)

4. Organization Profiles. The applicant demonstrates the capacity of the organization to achieve the project's objectives. Organizational expertise and experience in the provision of technical assistance and information-sharing activities is described. (20 points)

5. Budget and Budget Justification. The budget is reasonable, clearly presented, and cost-effective. (15 points)

Program Area 5

Technical Assistance for Refugee Child Welfare Services

Program Purpose and Scope

Well-being of refugee families is an important contributing factor to family self-sufficiency. ORR proposes to award one cooperative agreement to an agency that will provide technical assistance to public and private agencies in promoting collaboration among refugee communities, the network of refugee resettlement services, and the child and youth services including child protective services to promote the well-being of refugee families.

Refugee families residing in U.S. communities may encounter significant differences in child rearing practices compared to the ethnic or national customs of their country of origin. First, traditional cultures with a strong authoritarian parental role may frequently conflict with the more egalitarian American family, resulting, for example, in differences in refugee youth's desire for early independence. Second, refugee families may experience trauma as a result of the persecution or flight, the effects of which may be destabilizing to family life. Third, refugee families may need income from both parents, unlike the practice of their home country, to adequately provide for their needs. Fourth, single parent families face similar stresses that U.S. single parent families face in addition to the trauma from their refugee experiences. Finally, they may live in low income neighborhoods with high crime rates and without the benefit of an ethnic community to provide information, guidance, protection and support.

As a result of these factors, a small number of refugee families encounter and may require the assistance of child protective services and other services of the judicial system. These experiences may not be easily understood by the refugee family and the larger refugee community and serve to make the whole refugee community insecure with the U.S. child welfare and child protective systems. This may result in difficulties for refugee families to establish homes that promote the well-being of its members, where parents are secure in their role of providing a nurturing and educational environment for their children and youth. Children may also confront conflicts in meeting the expectations of their parents, fitting in with their peers or finding a sense of belonging in the schools and social groups.

Many U.S. community public services do not have the cultural expertise or language capability to work effectively with refugee families. While the Civil Rights Act of 1964 mandates equal access to public services, frequently public resources are limited, and cultural and linguistic capacity is seldom available for refugee families.

In recent years, ORR has funded initiatives for recreation for refugee youth, crime prevention among refugee youth, parenting classes, and intergenerational activities. Currently, ORR has approximately 30 grantees in these program areas, but is likely to award funds to additional grantees during this fiscal year. It has become clear over time that a productive relationship with child welfare services, child protective services, youth shelters and other youth transitional services is also needed to promote the refugee families' capacity to care for their children and youth in their new communities.

ORR is interested in supporting a national technical assistance effort to promote collaboration among refugee families, refugee service providers and the children and youth service agencies that promote the welfare of refugee families, refugee youth and children. The cooperative agreement is also intended to promote cultural and linguistic services or access to services for refugee families. ORR is interested in the grantee selecting approximately six specific communities in which to concentrate assessment and training activities with child welfare services and refugee families. Approximately $400,000 has been allocated for this program area.

Through this cooperative agreement, ORR intends to review and approve: (1) A technical assistance plan (such as the site selection of specific communities for concentrated activities), including proposed additional site visits and technical assistance activities and schedules; (2) all written materials developed and proposed for dissemination to the field; (3) locations of proposed workshops, proposed topics, formats and agendas; and 4) other innovative activities that may be proposed by the grantee.

Allowable Activities

Applicants may propose all or some combination of the following, as well as other innovative strategies for technical assistance:

• Provision of technical assistance to refugee communities, refugee service providers, school systems, school counselors, and child welfare and youth services agencies both in writing and through telephone consultation;

• Facilitating the electronic exchange of refugee child welfare information through a network website and listserv;

• Providing on-site group training or technical assistance meetings and workshops;

• Promoting refugee families as foster parents;

• Locating or developing training curricula and materials;

• Conducting on-site reviews of refugee child welfare services.

Program Area 5

Refugee Child Welfare Services Application Review Criteria

1. Approach. The technical assistance plan is clearly described and appropriate, and the proposed activities and timeframes are reasonable. The technical assistance plan describes clearly and in detail the manner in which the applicant will assess the need for technical assistance, the proposed activities, and how the propose activities are expected to address known technical assistance needs of agencies and communities. (25 points)

2. Results and Benefits Expected. The results or benefits expected are clearly explained and are appropriate to the technical assistance activities proposed. (20 points)

3. Organizational Capacity. The capacity of the applicant to achieve the project's objectives is clearly demonstrated. Organizational expertise and experience in the provision of technical assistance and information sharing are appropriate for the proposed project. (25 points)

4. Staff. Staff qualifications are clearly presented and are appropriate to achieving the project's objectives. The description of staff qualifications demonstrates experience providing technical assistance to refugee programs and communities. (15 points)

5. Budget. The budget is clearly presented and is detailed, reasonable and cost effective. (15 points)

Program Area 6

Technical Assistance for Refugee Housing Services

Purpose and Scope

The primary goal of refugee resettlement is to assist refugees in becoming self-sufficient. One factor that is critical to achieving this goal is access to affordable and decent housing. ORR proposes to award one cooperative agreement to an agency that will provide technical assistance to ORR service providers in the provision of this essential service.

This program area is intended to assist both service providers and refugees in gaining access to affordable and decent housing for refugee singles and families. In locations throughout the U.S. where the majority of refugees are resettled, rent levels are being pushed to record highs; and there is a dwindling supply of affordable and decent housing. In many areas, rents are increasing faster than wages; and recent energy price hikes have exacerbated an already critical situation. There is a need to assist resettlement and service agencies in developing innovative approaches to the housing crisis so that refugees can live as well-informed consumers in safe and decent homes and communities.

A grantee in this category will provide technical planning and assistance to promote access to housing that meets acceptable standards for health, safety, affordability, good repair and maintenance.

Approximately $250,000 has been allocated for this program area. One cooperative agreement may be awarded for one national project.

Through this cooperative agreement, ORR intends to review and approve (1) The technical assistance plan, including proposed site visits and technical assistance activities and schedules; (2) all written materials developed prior to the release of such documents; and (3) locations of proposed workshops, proposed topics and formats, and agendas.

Allowable Activities

Applicants may propose all or a combination of the activities described below. Applicants may also propose new or innovative approaches to providing technical assistance in the area of housing assistance and services.

• On-site visits to assess technical assistance needs, to provide technical assistance and training directly to agencies, and to ascertain best practices in providing services for counseling refugees about housing;

• Provision of information to agencies on relevant available services and programs in the area of housing assistance, including programs designed for low-income first time home buyers;

• Preparation of a variety of reports to be distributed to agencies to assist them in providing housing services, including site visit reports and best practices reports;

• Organization and operation of workshops for agencies in the area of housing services, to include such subjects as effective use of Section 8 vouchers, energy assistance, and other local assistance programs as available;

• Assistance in developing collaborative agreements with employers, housing non-profit agencies, landlords, and other Federal and State agency programs;

• Training of case workers in orienting refugees to be responsible tenants including timely payment of rent, maintenance of apartments, building good credit and negotiating with landlords;

• Provision of technical assistance, both in writing and by telephone, to agencies.

Program Area 6

Refugee Housing Services Application Review Criteria

1. Approach. The technical assistance plan is clearly described and appropriate; and the proposed activities and timeframes are reasonable. The technical assistance plan describes clearly and in detail the manner in which the applicant will assess the need for technical assistance, the proposed activities, and how the proposed activities are expected to address known technical assistance needs of agencies that provide housing assistance and services. (30 points)

2. Results and Benefits Expected. The results or benefits expected are clearly explained and are appropriate to the technical assistance activities proposed. (20 points)

3. Organizational Capacity. The capacity of the applicant to achieve the project's objectives is clearly demonstrated. Organizational expertise and experience in the provision of housing assistance and in the provision of technical assistance are described and are appropriate and adequate for the proposed project. (25 points)

4. Staff. Staff qualifications are clearly presented and are appropriate to achieving the project's objectives. The description of staff qualifications demonstrates experience in providing housing assistance services and in providing technical assistance. (10 points)

5. Budget. The budget is clearly presented and is detailed, reasonable, and cost effective. (15 points)

Part II: General Instructions for Preparing a Full Project Description

Purpose

The project description provides a major means by which an application is evaluated and ranked to compete with other applications for available assistance. The project description should be concise and complete and should address the activity for which Federal funds are being requested. Supporting documents should be included where they can present information clearly and succinctly. Applicants are encouraged to provide information on their organizational structure, staff, related experience, and other information considered to be relevant. Awarding offices use this and other information to determine whether the applicant has the capability and resources necessary to carry out the proposed project. It is important, therefore, that this information be included in the application. However, in the narrative the applicant must distinguish between resources directly related to the proposed project from those that will not be used in support of the specific project for which funds are requested.

General Instructions

Cross-referencing should be used rather than repetition. ACF is particularly interested in specific factual information and statements of measurable goals in quantitative terms. Project descriptions are evaluated on the basis of substance, not length. Extensive exhibits are not required. (Supporting information concerning activities that will not be directly funded by the grant or information that does not directly pertain to an integral part of the grant funded activity should be placed in an appendix.) Pages should be numbered and a table of contents should be included for easy reference.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived. For example, when applying for a grant to establish a neighborhood child care center, describe who will occupy the facility, who will use the facility, how the facility will be used, and how the facility will benefit the community which it will serve. For example, when applying for microenterprise development assistance, describe the prospective clients in terms of numbers, national origin, interest in microenterprise and what business opportunities are available to refugees in the community.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of microloans made. When accomplishments cannot be quantified by activity or function, list them in chronological order to show the schedule of accomplishments and their target dates.

Identify the kinds of data to be collected, maintained, and/or disseminated. Note that clearance from the U.S. Office of Management and Budget might be needed prior to a “collection of information” that is “conducted or sponsored” by ACF. List organizations, cooperating entities, consultants, or other key individuals who will work on the project along with a short description of the nature of their effort or contribution.

Geographic Location

Describe the precise location of the project and boundaries of the area to be served by the proposed project. Maps or other graphic aids may be attached.

Staff and Position Data

Provide a biographical sketch for each key person appointed and a job description for each vacant key position. A biographical sketch will also be required for new key staff as appointed.

Organization Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Third-Party Agreements

Include written agreements between grantees and subgrantees or subcontractors or other cooperating entities. These agreements must detail scope of work to be performed, work schedules, remuneration, and other terms and conditions that structure or define the relationship.

Letters of Support

Provide statements from community, public and commercial leaders that support the project proposed for funding.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

General

The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: Costs of tangible, non-expendable, personal property, having a useful life of more than one year and an acquisition cost of $5,000 or more per unit. However, an applicant may use its own definition of equipment provided that such equipment would at least include all equipment defined above.

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgment that the applicant is accepting a lower rate than allowed.

Program Income

Description: The estimated amount of income, if any, expected to be generated from this project.

Justification: Describe the nature, source and anticipated use of program income in the budget or refer to the pages in the application which contain this information.

Non-Federal Resources

Description: Amounts of non-Federal resources that will be used to support the project as identified in Block 15 of the SF-424.

Justification: The firm commitment of these resources must be documented and submitted with the application in order to be given credit in the review process. A detailed budget must be prepared for each funding source.

Total Direct Charges, Total Indirect Charges, Total Project Costs

Self explanatory.

Part III: The Review Process

Intergovernmental Review: State Single Point of Contact (SPOC)

This program is covered under Executive Order 12372, “Intergovernmental Review of Federal Programs,” and 45 CFR Part 100, “Intergovernmental Review of Department of Health and Human Services Programs and Activities.” Under the Order, States may design their own processes for reviewing and commenting on proposed Federal assistance under covered programs.

Note: State/territory participation in the intergovernmental review process does not signify applicant eligibility for financial assistance under a program. A potential applicant must meet the eligibility requirements of the program for which it is applying prior to submitting an application to its SPOC, if applicable, or to ACF.

In accordance with Executive Order #12372, “Intergovernmental Review of Federal Programs,” this listing represents the designated State Single Points of Contact. The jurisdictions not listed no longer participate in the process but grant applicants are still eligible to apply for the grant even if your state, territory, commonwealth, etc. does not have a “state single point of contact.” Jurisdictions without “state single points of contacts” include: Alabama; Alaska; American Samoa; Colorado; Connecticut; Kansas; Hawaii; Idaho; Louisiana; Massachusetts; Minnesota; Montana; Nebraska; New Jersey; Ohio; Oklahoma; Oregon; Palau; Pennsylvania; South Dakota; Tennessee; Vermont; Virginia; and Washington.

This list is based on the most current information provided by the States. Information on any changes or apparent errors should be provided to the Office of Management and Budget and the State in question. Changes to the list will only be made upon formal notification by the State. Also, this listing is published biannually in the Catalogue of Federal Domestic Assistance.

Jurisdictions that participate in the Executive Order process have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards. SPOCs are encouraged to eliminate the submission of routine endorsements as official recommendations. Additionally, SPOCs are requested to clearly differentiate between mere advisory comments and those official State process recommendations which may trigger the “accommodate or explain” rule. When comments are submitted directly to ACF, they should be addressed to: Department of Health and Human Services, Administration for Children and Families, Office of Refugee Resettlement, 370 L'Enfant Promenade SW, 6th Floor, Washington DC, 20447 Attn: Ms. Daphne Weeden.

A list of the Single Points of Contact for each State and Territory follows:

OMB State Single Point of Contact Listing

Arizona

Joni Saad, Arizona State Clearinghouse, 3800 N. Central Avenue, Fourteenth Floor, Phoenix, Arizona 85012, Telephone: (602) 280-1315, FAX: (602) 280-8144, e-mail: jonis@ep.state.az.us

Arkansas

Mr. Tracy L. Copeland, Manager, State Clearinghouse, Office of Intergovernmental Services, Department of Finance and Administration, 1515 W. 7th St., Room 412, Little Rock, Arkansas 72203, Telephone: (501) 682-1074, FAX: (501) 682-5206

California

Grants Coordinator, Office of Planning and Research/State Clearinghouse, 1400 Tenth Street, Room 121, Sacramento, California 95814, Telephone: (916) 323-7480, FAX: (916) 323-3018

Delaware

Francine Booth, State Single Point of Contact, Executive Department, Office of the Budget, 540 S. du Pont Highway, Suite 5, Dover, Delaware 19901, Telephone: (302) 739-3326, FAX: (302) 739-5661

District of Columbia

Charles Nichols, State Single Point of Contact, Office of Grants Management and Development, 717 14th Street, NW—Suite 1200, Washington, D.C. 20005, Telephone: (202) 727-6537, FAX: (202) 727-1617, e-mail: charlesnic@yahoo.com or cnichols-ogmd@dcgov.org

Florida

Cherie L. Trainor, Coordinator, Florida State Clearinghouse, Department of Community Affairs, 2555 Shumard Oak Boulevard, Tallahassee, Florida 32399-2100, Telephone: (850) 922-5438 or (850) 414-5495, FAX: (850) 414-0479, e-mail: cherie.trainor@dca.state.fl.us

Georgia

Debra S. Stephens, Coordinator, Georgia State Clearinghouse, 270 Washington Street, SW.—8th Floor, Atlanta, Georgia 30334, Telephone: (404) 656-3855, FAX: (404) 656-7901, e-mail: ssda@mail.opb.state.ga.us

Illinois

Virginia Bova, State Single Point of Contact, Illinois Department of Commerce and Community Affairs, James R. Thompson Center, 100 West Randolph, Suite 3-400, Chicago, Illinois 60601, Telephone: (312) 814-6028, FAX: (312) 814-1800

Indiana

Frances Williams, State Budget Agency, 212 State House, Indianapolis, Indiana 46204-2796, Telephone: (317) 232-5619, FAX: (317) 233-3323

Iowa

Steven R. McCann, Division for Community Assistance, Iowa Department of Economic Development, 200 East Grand Avenue, Des Moines, Iowa 50309, Telephone: (515) 242-4719, FAX: (515) 242-4809

Kentucky

Kevin J. Goldsmith, Director, John-Mark Hack, Deputy Director, Sandra Brewer, Executive Secretary, Intergovernmental Affairs, Office of the Governor 700 Capitol Avenue, Frankfort, Kentucky 40601, Telephone: (502) 564-2611, FAX: (502) 564-2849

Maine

Joyce Benson, State Planning Office, 184 State Street, 38 State House Station, Augusta, Maine 04333, Telephone: (207) 287-3261, FAX: (207) 287-6489

Maryland

Linda C. Janey, JD, Manager, Clearinghouse and Plan Review Unit, Maryland Office of Planning, 301 W. Preston Street—Room 1104, Baltimore, Maryland 21201-2305, Telephone: (410) 767-4491, FAX: (410) 767-4480 e-mail: Linda@mail.op.state.md.us

Michigan

Richard Pfaff, Southeast Michigan Council of Governments, 660 Plaza Drive—Suite 1900, Detroit, Michigan 48226, Telephone: (313) 961-4266, FAX: (313) 961-4869

Mississippi

Cathy Mallette, Clearinghouse Officer, Department of Finance and Administration, 455 North Lamar Street, Jackson, Mississippi 39202-3087, Telephone: (601) 359-6762, FAX: (601) 359-6764

Missouri

Lois Pohl/Carol Meyer, Federal Assistance Clearinghouse, Office Of Administration, P.O. Box 809, Room 915, Jefferson Building, Jefferson City, Missouri 65102, Telephone: (573) 751-4834, FAX: (573) 522-4395

Nevada

Heather Elliott, Department of Administration, State Clearinghouse, Capitol Complex, Carson City, Nevada 89710, Telephone: (702) 687-6367, FAX: (702) 687-3983

New Hampshire

Jeffrey H. Taylor, Director, New Hampshire Office of State Planning, Attn: Intergovernmental Review Process, Mike Blake, Office of State Planning, 2½ Beacon Street, Concord, New Hampshire 03301, Telephone: (603) 271-2155, FAX: (603) 271-1728

New Mexico

Nick Mandell, Local Government Division, Room 201, Bataan Memorial Building, Santa Fe, New Mexico 87503, Telephone: (505) 827-4991, FAX: (505) 827-4948

New York

Marsha Roth, New York State Clearinghouse, Division of the Budget, State Capitol, Albany, New York 12224, Telephone: (518) 474-1605, FAX: (518) 486-5617

North Carolina

Chrys Baggett, Director, North Carolina State Clearinghouse, Office of the Secretary of Administration 116 West Jones Street—Suite 5106, Raleigh, North Carolina 27603-8003, Telephone: (919) 733-7232, FAX: (919) 733-9571

North Dakota

Jim Boyd, North Dakota Single Point of Contact, Office of Intergovernmental Assistance, 600 East Boulevard Avenue, Department 105, Bismarck, North Dakota 58505-0170, Telephone: (701) 328-2094, FAX: (701) 328-2308

Rhode Island

Kevin Nelson, Review Coordinator, Department of Administration, Division of Planning, One Capitol Hill, 4th Floor, Providence, Rhode Island 02908-5870, Telephone: (401) 222-2656, FAX: (401) 222-2083

South Carolina

Omegia Burgess, State Single Point of Contact, Budget and Control Board, Office of State Budget, 1122 Ladies Street—12th Floor, Columbia, South Carolina 29201, Telephone: (803) 734-0494, FAX: (803) 734-0645

Texas

Tom Adams, Single Point of Contact, State of Texas, Governor's Office of Budget and Planning, Director, Intergovernmental Coordination, P.O. Box 12428, Austin, Texas 78711-2428, Telephone: (512) 463-1771, FAX: (512) 936-2681, e-mail: tadams@governor.state.tx.us

Utah

Carolyn Wright, Utah State Clearinghouse, Office of Planning and Budget, Room 116 State Capitol, Salt Lake City, Utah 84114, Telephone: (801) 538-1535, FAX: (801) 538-1547

West Virginia

Judith Dryer, Chief Program Manager, West Virginia Development Office, Building #6, Room 645, State Capitol, Charleston, West Virginia 25305, Telephone: (304) 558-0350, FAX: (304) 558-0362

Wisconsin

Jeff Smith, Section Chief, State/Federal Relations, Wisconsin Department of Administration, 101 East Wilson Street—6th Floor, P.O. Box 7868, Madison, Wisconsin 53707, Telephone: (608) 266-0267, FAX: (608) 267-6931

Wyoming

Matthew Jones, State Single Point of Contact, Office of the Governor, 200 West 24th Street, State Capital, Room 124, Cheyenne, Wyoming 82002, FAX: (307) 632-3909

Territories

Guam

Mr. Giovanni T. Sgambelluri, Director, Bureau of Budget and Management Research, Office of the Governor, P.O. Box 2950, Agana, Guam 96910, Telephone: 011-671-472-2285, FAX: 011-671-472-2825

Puerto Rico

Norma Burgos/Jose E. Caro, Chairwoman/Director, Puerto Rico Planning Board, Federal Proposals Review Office, Minillas Government Center, P.O. Box 41119, San Juan, Puerto Rico 00940-1119, Telephone: (809) 727-4444 or (809) 723-6190, FAX: (809) 724-3270 or (809) 724-3103

Northern Mariana Islands

Mr. Alvaro A. Santos, Executive Officer, Office of Management and Budget, Office of the Governor, Saipan, MP 96950, Telephone: (670) 664-2256, FAX: (670) 664-2272

Please direct all questions and correspondence about intergovernmental review to:

Ms. Jacoba T. Seman, Federal Programs Coordinator, Telephone: (670) 664-2289, FAX: (670) 664-2272

Virgin Islands

Nellon Bowry, Director, Office of Management and Budget, #41 Norregade Emancipation Garden Station, Second Floor, Saint Thomas, Virgin Islands 00802

Please direct all questions and correspondence about intergovernmental review to:

Daisey Millen, Telephone: (809) 774-0750, FAX: (809) 776-0069

Initial ACF Screening

Each application submitted under this program announcement will undergo a pre-review to determine that (1) the application was received by the closing date and submitted in accordance with the instructions in this announcement and (2) the applicant is eligible for funding.

Competitive Review

Applications which pass the initial ACF screening will be evaluated and rated by an independent review panel on the basis of specific evaluation criteria. The evaluation criteria are designed to assess the quality of a proposed project, and to determine the likelihood of its success. The evaluation criteria are closely related and are considered as a whole in judging the overall quality of an application. Points are awarded only to applications which are responsive to the evaluation criteria within the context of this program announcement.

Funding Reconsideration

After Federal funds are exhausted for this grant competition, applications which have been independently reviewed and ranked but have no final disposition (neither approved nor disapproved for funding) may again be considered for funding. Reconsideration may occur at any time funds become available within twelve (12) months following ranking. However, ACF does not select from multiple ranking lists for a program. Therefore, should a new competition be scheduled and an application remain ranked without final disposition, applicants are informed of their opportunity to reapply for the new competition, to the extent practical.

Part IV: Application Submission

In order to be considered for a grant under this program announcement, an application must be submitted on the forms supplied and in the manner prescribed by ACF. Application materials including forms and instructions are available from the contact named under the ADDRESSES section in the preamble of this announcement.

Each application should include one signed original and two additional copies.

Each application narrative portion should not exceed 25 double-spaced pages in a 12-pitch font. Attachments and appendices should not exceed 25 pages and should be used only to provide supporting documentation such as maps, administration charts, position descriptions, resumes, and letters of intent for partnership agreements. Please do not include books or video tapes as they are not easily reproduced and are therefore, inaccessible to the reviewers. Each page should be numbered sequentially, including the attachments or appendices.

A. Application Materials

Applicants for financial assistance under this announcement must file the Standard Form (SF) 424, Application for Federal Assistance; SF 424A, Budget Information—Non-construction Programs; SF 424B, Assurances—Non-Construction Programs. The forms may be reproduced for use in submitting applications. An application with an original signature and two copies is required.

B. Application Submission Information and Certifications

The closing date for submission of applications is June 20, 2000. Mailed applications postmarked after the closing date will be classified as late.

Deadline: Mailed applications shall be considered as meeting an announced deadline if they are either received on or before the deadline date or sent on or before the deadline date and received by ACF in time for the independent review to: U.S. Department of Health and Human Services, Administration for Children and Families, Office of Refugee Resettlement, Attention: Ms. Daphne Weeden.

Applicants must ensure that a legibly dated U.S. Postal Service postmark or a legibly dated, machine produced postmark of a commercial mail service is affixed to the envelope/package containing the application(s). To be acceptable as proof of timely mailing, a postmark from a commercial mail service must include the logo/emblem of the commercial mail service company and must reflect the date the package was received by the commercial mail service company from the applicant. Private Metered postmarks shall not be acceptable as proof of timely mailing. (Applicants are cautioned that express/overnight mail services do not always deliver as agreed.)

Applications handcarried by applicants, applicant couriers, or by other representatives of the applicant shall be considered as meeting an announced deadline if they are received on or before the deadline date, between the hours of 8:00 a.m. and 4:30 p.m., EST, at the U.S. Department of Health and Human Services, Administration for Children and Families, the Office of Refugee Resettlement, 6th Floor, Aerospace Building, 901 D Street, SW, Washington, DC 20447 between Monday and Friday (excluding Federal holidays). The address must appear on the envelope/package containing the application with the note “Attention: Ms. Daphne Weeden.” (Applicants are cautioned that express/overnight mail services do not always deliver as agreed.)

ACF cannot accommodate transmission of applications by fax or through other electronic media. Therefore, applications transmitted to ACF electronically will not be accepted regardless of date or time of submission and time of receipt.

Late applications: Applications which do not meet the criteria above are considered late applications. ACF shall notify each late applicant that its application will not be considered in the current competition.

Extension of deadlines: ACF may extend application deadlines when circumstances such as acts of God (floods, hurricanes, etc.) occur, or when there are widespread disruptions of mails service. Determinations to extend or waive deadline requirements rest with the Chief Grants Management Officer.

For Further Information on Application Deadlines Contact: Ms. Daphne Weeden, Administration for Children and Families, Office of Refugee Resettlement, 370 L'Enfant Promenade SW, 6th Floor, Washington, DC 20447, (202) 401-4577.

Standard Language Concerning the Certifications, Assurances, and Disclosure Required for Non Construction Programs

Applicants requesting financial assistance for non construction projects must file the Standard Form 424B, “Assurances: Non-Construction Programs.” Applicants must sign and return the Standard Form 424B with their applications.

Applicants must disclose lobbying activities on the Standard Form LLL when applying for an award in excess of $100,000. Applicants who have used non Federal funds for lobbying activities in connection with receiving assistance under this announcement shall complete a disclosure form to report lobbying. Applicants must sign and return the disclosure form, if applicable, with their applications.

Applicants must make the appropriate certification of their compliance with the Drug Free Workplace Act of 1988. By signing and submitting the application, the applicant is providing the certification and need not mail back the certification with the applications. Applicants must make the appropriate certification that they are not presently debarred, suspended or otherwise ineligible for an award. By signing and submitting the application, the applicant is providing the certification need not mail back the certification with the applications.

Applicable Regulations

Applicable DHHS grant administration regulations can be found in 45 CFR Part 74 or 92.

Reporting Requirements

Grantees are required to file the Financial status Report (SF-269) and Program Performance Reports on a semi-annual basis. Funds issued under these awards must be accounted for and reported upon separately from all other grant activities. Although ORR does not expect the proposed projects to include evaluation activities, it does expect grantees to maintain adequate records to track and report on project outcomes. The official receipt point for all reports and correspondence is the ORR Grants Officer, Ms. Daphne Weeden, Administration for Children and Families/Office of Refugee Resettlement, 370 L'Enfant Promenade SW, 6th Floor, Washington, DC 20447, Telephone: (202) 401-4577. An original and one copy of each report shall be submitted within 30 days of the end of each reporting period directly to the Grants Officer. The mailing address is: Ms. Daphne Weeden, Administration for Children and Families, Office of Refugee Resettlement, 370 L'Enfant Promenade SW, 6th Floor, Washington, DC 20447. A final Financial and Program Report shall be due 90 days after the budget expiration date or termination of grant support.

Dated: April 18, 2000.
Lavinia Limón,
Director, Office of Refuge Resettlement.

[FR Doc. 00-10018 Filed 4-20-00; 8:45 am]

BILLING CODE 4184-01-P